DEPARTMENT OF ENERGY

Federal Energy Regulatory Commission

[Project No. 14287-000]

Table Mountain Pumped Storage Project; Notice of Preliminary Permit Application Accepted for Filing and Soliciting Comments, Motions To Intervene, and Competing Applications

On September 14, 2011, Table Mountain Hydro, LLC, Arizona, filed an application for a preliminary permit, pursuant to section 4(f) of the Federal Power Act (FPA), proposing to study the feasibility of the Table Mountain Pumped Storage Project to be located near the towns of Peach Springs and Kingman, Mohave County, Arizona. The project would affect federal lands administered by the Bureau of Land Management. The sole purpose of a preliminary permit, if issued, is to grant the permit holder priority to file a license application during the permit term. A preliminary permit does not authorize the permit holder to perform any land-disturbing activities or otherwise enter upon lands or waters owned by others without the owners' express permission.

The proposed project would consist of the following: (1) An upper reservoir, formed by a 90-foot-high by 6,020-foot-long, roller-compacted concrete (RCC) or a concrete-faced-rockfill (CFRD) dam, with a total storage capacity of 5,280 acre-feet and a water surface area of 66 acres at full pool elevation of 5,120 feet above mean sea level (msl); (2) a lower reservoir, formed by a 160-foot-high by 1,480-foot-long RCC or CFRD dam, having a total storage capacity of 5,683 acre-feet and a water surface area of 69 acres at full pool elevation of 3,700 feet msl; (3) approximately 12,750 feet of conduit connecting the upper to the lower reservoir in three different sections: A 1,640-foot-long by a 16.5-foot-diameter, concrete-lined vertical-pressure tunnel, a 5,000-foot-long by 16.5-foot-diameter concrete-lined headrace, and a 6,300-foot-long by 19.8-foot-diameter tailrace; and (4) an underground powerhouse located roughly at a depth of 1,000 feet at an elevation of 3,300 feet msl, with reversible pump-turbines totaling 400 megawatts (MW) (3 units x 133 MW units) of generating capacity, with up to 100 MW of additional pumping capacity (total of 500 MW pumping capacity). The annual energy output would be approximately 1,051,200 mega-watt-hours. Interconnection would be provided at either: (1) The Moenkopi-Eldorado 500 kilovolt (kV) line (APS/SCE) via a new, 4.3-mile-long, single-circuit 345-kV line; (2) the Mead-Phoenix 500-kV line (WAPA, APS, SRP, LADWP) via a new, 6.3-mile-long, 345-kV line; or (3) the Liberty-Mead 345-kV line (WAPA) via a new, 7.5-mile-long, single-circuit 345-kV line. The transmission line would require a 120- to 160-foot-wide right of way.

Applicant Contact: Matthew Shapiro, Table Mountain Hydro, LLC., 1210 W. Franklin St., Ste. 2, Boise, ID 83702; phone (208) 246-9925.

FERC Contact: Brian Csernak; phone: (202) 502-6144.

Deadline for filing comments, motions to intervene, competing applications (without notices of intent), or notices of intent to file competing applications: 60 days from the issuance of this notice. Competing applications and notices of intent must meet the requirements of 18 CFR 4.36. Comments, motions to intervene, notices of intent, and competing applications may be filed electronically via the Internet. See 18 CFR 385.2001(a)(1)(iii) and the instructions on the Commission's Web site http://www.ferc.gov/docs-filing/efiling.asp. Commenters can submit brief comments up to 6,000 characters, without prior registration, using the eComment system at http://www.ferc.gov/docs-filing/ecomment.asp. You must include your name and contact information at the end of your comments. For assistance, please contact FERC Online Support at FERCOnlineSupport@ferc.gov or toll free at 1-(866) 208-3676, or for TTY, (202) 502-8659. Although the Commission strongly encourages electronic filing, documents may also be paper-filed. To paper-file, mail an original and seven copies to: Kimberly D. Bose, Secretary, Federal Energy Regulatory Commission, 888 First Street NE., Washington, DC 20426.

More information about this project, including a copy of the application, can be viewed or printed on the “eLibrary” link of Commission's Web site at http://www.ferc.gov/docs-filing/elibrary.asp. Enter the docket number (P-14287-000) in the docket number field to access the document. For assistance, contact FERC Online Support.

Dated: November 4, 2011.
Kimberly D. Bose,
Secretary.

[FR Doc. 2011-29248 Filed 11-10-11; 8:45 am]

BILLING CODE 6717-01-P